DEPARTMENT OF TRANSPORTATION

Federal Aviation Administration

14 CFR Part 39

[Docket No. FAA-2007-28958; Directorate Identifier 2007-CE-070-AD; Amendment 39-15227; AD 2007-21-09]

RIN 2120-AA64

Airworthiness Directives; Stemme GmbH & Co. KG Model S10-VT Gliders

AGENCY: Federal Aviation Administration (FAA), DOT.

ACTION: Final rule; request for comments.

SUMMARY: We are adopting a new airworthiness directive (AD) for the products listed above. This AD results from mandatory continuing airworthiness information (MCAI) issued by the aviation authority of another country to identify and correct an unsafe condition on an aviation product. The MCAI describes the unsafe condition as:

As a result of a fault report from a Stemme S10-VT operator, an investigation of the differential fuel pressure sensor 11AB-K01 was performed. The fault report describes a fuel leak through the air pressure line into the airbox. The fuel escaped through the drainage tubes. As a result of this investigation, the possibility of a leak to the engine compartment cannot be excluded.

This AD requires actions that are intended to address the unsafe condition described in the MCAI.

DATES: This AD becomes effective November 1, 2007.

On November 1, 2007, the Director of the Federal Register approved the incorporation by reference of certain publications listed in this AD.

We must receive comments on this proposed AD by November 13, 2007.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

Examining the AD Docket

You may examine the AD docket on the Internet at http://www.regulations.gov; or in person at the Docket Management Facility between 9 a.m. and 5 p.m., Monday through Friday, except Federal holidays. The AD docket contains this AD, the regulatory evaluation, any comments received, and other information. The street address for the Docket Office (telephone (800) 647-5527) is in the ADDRESSES section. Comments will be available in the AD docket shortly after receipt.

FOR FURTHER INFORMATION CONTACT: Greg Davison, Glider Program Manager, 901 Locust, Room 301, Kansas City, Missouri 64106; telephone: (816) 329-4130; fax: (816) 329-4090.

SUPPLEMENTARY INFORMATION:

Discussion

The European Aviation Safety Agency (EASA), which is the Technical Agent for the Member States of the European Community, has issued AD No.: 2007-0191-E, dated July 13, 2007 (referred to after this as “the MCAI”), to correct an unsafe condition for the specified products. The MCAI states:

As a result of a fault report from a Stemme S10-VT operator, an investigation of the differential fuel pressure sensor 11AB-K01 was performed. The fault report describes a fuel leak through the air pressure line into the airbox. The fuel escaped through the drainage tubes. As a result of this investigation, the possibility of a leak to the engine compartment cannot be excluded.

Differential fuel pressure sensor type 11AB-KD was designed end of year 2003 after the end of production of the old differential fuel pressure sensor 11AB-K01. The old differential fuel pressure sensor 11AB-K01 was installed into the serial production until April 2004. The differential fuel pressure sensor 11AB-K01 has a life time limitation of 5 years. The new differential fuel pressure sensor 11AB-KD has no life time limitation.

Stemme AG has issued Service Bulletin A31-10-081, describing the repetitive inspection and ultimate replacement of the old differential fuel pressure sensor 11AB-K01. Some 32 installation kits (11AB-KIT) containing the type 11AB-KD sensor were provided to different owners of Stemme S10-VT aircraft in the period between April 2003 and May 2007. The Stemme-Group has no information about the installation of these kits.

You may obtain further information by examining the MCAI in the AD.

Relevant Service Information

STEMME F & D has issued Service Bulletin A31-10-081, Am.-Index: 01.a, dated June 25, 2007. The actions described in this service information are intended to correct the unsafe condition identified in the MCAI.

FAA's Determination and Requirements of the AD

This product has been approved by the aviation authority of another country, and is approved for operation in the United States. Pursuant to our bilateral agreement with this State of Design Authority, they have notified us of the unsafe condition described in the MCAI and service information referenced above. We are issuing this AD because we evaluated all information provided by the State of Design Authority and determined the unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might have also required different actions in this AD from those in the MCAI in order to follow FAA policies. Any such differences are described in a separate paragraph of the AD. These requirements take precedence over those copied from the MCAI.

FAA's Determination of the Effective Date

An unsafe condition exists that requires the immediate adoption of this AD. The FAA has found that the risk to the flying public justifies waiving notice and comment prior to adoption of this rule because a fuel leak through the drainage tubes was found following the investigation of the differential pressure sensor 11AB-K01. A Stemme S10 VT operator made a fault report describing a fuel leak through the air pressure line into the airbox, prompting the investigation. The fuel escaped through the drainage tubes. As a result of this investigation, the possibility of a leak in the engine compartment cannot be excluded. Therefore, we determined that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2007-28958; Directorate Identifier 2007-CE-070-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2007-21-09 Stemme GmbH & Co. KG: Amendment 39-15227; Docket No. FAA-2007-28958; Directorate Identifier 2007-CE-070-AD.

Effective Date

(a) This airworthiness directive (AD) becomes effective November 1, 2007.

Affected ADs

(b) None.

Applicability

(c) This AD applies to Stemme Model S10-VT gliders, all serial numbers, certificated in any category.

Subject

(d) Air Transport Association of America (ATA) Code 28: Fuel.

Reason

(e) The mandatory continuing airworthiness information (MCAI) states:

As a result of a fault report from a Stemme S10-VT operator, an investigation of the differential fuel pressure sensor 11AB-K01 was performed. The fault report describes a fuel leak through the air pressure line into the airbox. The fuel escaped through the drainage tubes. As a result of this investigation, the possibility of a leak to the engine compartment cannot be excluded.

Differential fuel pressure sensor type 11AB-KD was designed end of year 2003 after the end of production of the old differential fuel pressure sensor 11AB-K01. The old differential fuel pressure sensor 11AB-K01 was installed into the serial production until April 2004. The differential fuel pressure sensor 11AB-K01 has a lifetime limitation of 5 years. The new differential fuel pressure sensor 11AB-KD has no lifetime limitation.

Stemme AG has issued Service Bulletin A31-10-081, describing the repetitive inspection and ultimate replacement of the old differential fuel pressure sensor 11AB-K01. Some 32 installation kits (11AB-KIT) containing the type 11AB-KD sensor were provided to different owners of Stemme S10-VT aircraft in the period between April 2003 and May 2007. The Stemme-Group has no information about the installation of these kits.

Actions and Compliance

(f) Unless already done, do the following actions.

(1) For all gliders with a type 11AB-K01 fuel pressure sensor installed:

(i) Before further flight after November 1, 2007 (the effective date of this AD), insert Stemme S10-VT Flight Manual page 4-2, Amendment No.: 3-SB A31-10-081, date of issue September 9, 1997, as attached to STEMME F & D Service Bulletin A31-10-081, Am.-Index: 01.a, dated June 25, 2007, into the Limitations section of the applicable airplane flight manual (AFM), upgrading the third check item “Daily Inspection” according to chapter 4.3, subchapter 4.3.1 “Engine”:

“* * * installed differential fuel pressure sensor must be checked with fuel cock “OPEN” and main fuel pumps ”ON”, for any signs of leakage in the area of case splitting.”

The owner/operator holding at least a private pilot certificate as authorized by section 43.7 of the Federal Aviation Regulations (14 CFR 43.7) may do this action. Make an entry in the aircraft records showing compliance with this portion of the AD following section 43.9 of the Federal Aviation Regulations (14 CFR 43.9).

(ii) If fuel leakage is found during any of the daily checks as required by the AFM insert of paragraph (f)(1)(i) of this AD, before further flight, repair any damage and replace the type 11AB-K01 sensor with the new type 11AB-KD sensor.

(iii) Within 30 days after November 1, 2007 (the effective date of this AD), replace any remaining type 11AB-K01 differential fuel pressure sensors with the new version 11AB-KD sensors.

(iv) After installation of the 11AB-KD differential fuel pressure sensor, remove the additionally introduced page from the Limitations section of the AFM as required by paragraph (f)(1)(i) of this AD. The repetitive daily inspection is no longer required.

(2) For all airplanes: As of 30 days after November 1, 2007 (the effective date of this AD), do not install a type 11AB-K01 differential fuel pressure sensor on any of the affected gliders as a replacement part.

FAA AD Differences

Note: This AD differs from the MCAI and/or service information as follows: No differences.

Other FAA AD Provisions

(g) The following provisions also apply to this AD:

(1) Alternative Methods of Compliance (AMOCs): The Manager, Standards Office, FAA, has the authority to approve AMOCs for this AD, if requested using the procedures found in 14 CFR 39.19. Send information to ATTN: Greg Davison, Glider Program Manager, FAA, Small Airplane Directorate, 901 Locust, Room 301, Kansas City, Missouri 64106; telephone: (816) 329-4130; fax: (816) 329-4090. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(h) Refer to MCAI European Aviation Safety Agency (EASA) AD No.:

2007-0191-E, dated July 13, 2007, and STEMME F & D Service Bulletin A31-10-081, Am.-Index: 01.a, dated June 25, 2007, for related information.

Material Incorporated by Reference

(i) You must use STEMME F & D Service Bulletin A31-10-081 Am.-Index: 01.a, dated June 25, 2007 (which includes Flight Manual Stemme S10-VT, page 4-2, Amendment No.: 3-SB A31-10-081, issued September 9, 1997), to do the actions required by this AD, unless the AD specifies otherwise.

(1) The Director of the Federal Register approved the incorporation by reference of this service information under 5 U.S.C. 552(a) and 1 CFR part 51.

(2) For service information identified in this AD, contact Stemme GmbH & Co. KG, Gustav-Meyer-Allee 25, D-13355 Berlin, Germany; Telephone: +49-3341-3111-70; Facsimile: +49-3341-3111-73.

(3) You may review copies at the FAA, Central Region, Office of the Regional Counsel, 901 Locust, Room 506, Kansas City, Missouri 64106; or at the National Archives and Records Administration (NARA). For information on the availability of this material at NARA, call 202-741-6030, or go to: http://www.archives.gov/federal-register/cfr/ibr-locations.html.

Issued in Kansas City, Missouri, on October 4, 2007.
David R. Showers,
Acting Manager, Small Airplane Directorate, Aircraft Certification Service.

[FR Doc. E7-20123 Filed 10-11-07; 8:45 am]

BILLING CODE 4910-13-P